DEPARTMENT OF HEALTH AND HUMAN SERVICES

Health Resources and Services Administration

Regional Pediatric Pandemic Network

AGENCY: Health Resources and Services Administration (HRSA), Department of Health and Human Services.

ACTION: Announcing supplemental funding for Regional Pediatric Pandemic Network award recipients in Maryland and Ohio.

SUMMARY: HRSA provided additional award funds to the two Regional Pediatric Pandemic Network (RPPN) Program recipients in Maryland and Ohio with periods of performance ending in fiscal year 2024.

FOR FURTHER INFORMATION CONTACT: Sara Kinsman, MD, Director, Division of Child, Adolescent and Family Health, Maternal and Child Bureau, Health Resources and Services Administration, at SKinsman@hrsa.gov and 301-443-2250.

SUPPLEMENTARY INFORMATION:

Intended Recipient(s) of the Award: The two award recipients of the HRSA Regional Pediatric Pandemic Network Program are Children's National Medical Center in Maryland, and University Hospitals Cleveland Medical Center in Ohio, as listed in Table 1.

Table 1—Recipients and Supplement Award Amounts
Grant No. | Award recipient name | City, state | Award amount
U1IMC45814 | Children's National Medical Center | MD | $400,000
U1IMC43532 | University Hospitals Cleveland Medical Center | OH | 400,000

Amount of Non-Competitive Award(s): Two awards at $400,000 per grant recipient totaling $800,000.

Project Period: September 1, 2023, to August 31, 2024.

Assistance Listing (CFDA) Number: 93.110.

Award Instrument: Supplement for RPPN support services.

Justification: Approximately $400,000 in supplemental funding has been awarded to each RPPN cooperative agreement recipient to increase activities to coordinate among the nation's pediatric hospitals and their communities to prepare for and respond to global health threats and coordinate research-informed responses to future pandemics. Projects approved by HRSA under this supplement are to be performed from the date of award through August 31, 2024.

Carole Johnson,
Administrator.

[FR Doc. 2023-21670 Filed 9-29-23; 8:45 am]

BILLING CODE 4165-15-P